DEPARTMENT OF TRANSPORTATION

Federal Aviation Administration

14 CFR Part 97

[Docket No. 30256; Amdt. No. 2058]

Standard Instrument Approach Procedures; Miscellaneous Amendments

AGENCY: Federal Aviation Administration (FAA), DOT.

ACTION: Final rule.

SUMMARY: This amendment establishes, amends, suspends, or revokes Standard Instrument Approach Procedures (SIAP's) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAP's, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK 73125) telephone: (405) 954-4164.

SUPPLEMENTARY INFORMATION: This amendment to part 97 of the Federal Aviation Regulations (14 CFR part 97) establishes, amends, suspends, or revokes SIAP's. The complete regulatory description of each SIAP is contained in official FAA form documents which are incorporated by reference in this amendment under 5 U.S.C. 552(a), 1 CFR part 51, and § 14 CFR 97.20 of the Federal Aviation Regulations (FAR), THe applicable FAA Forms are identified as FAA Form 8260-5. Materials incorporated by references are available for examination or purchase as stated above.

The large number of SIAP's their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR sections, with the types and effective dates of the SIAPs. This amendment also identifies the airport, its location, the procedure identification and the amendment number.

The Rule

This amendment to part 97 is effective upon publication of each separate SIAP as contained in the transmittal. The SIAP's contained in this amendment are based on the criteria contained in the United States Standard for Terminal Instrument Procedures (TERPS). In developing these SIAPs, the TERPS criteria were applied to the conditions existing or anticipated at the affected airports.

The FAA has determined through testing that current non-localizer type, non-precision instrument approaches developed using the TERPS criteria can be flown by aircraft equipped with a Global Positioning System (GPS) and or Flight Management System (FMS) equipment. In consideration of the above, the applicable SIAP's will be altered to include “or GPS or FMS” in the title without otherwise reviewing or modifying the procedure. (once a stand alone GPS or FMS procedure is developed, the procedure title will be altered to remove “or GPS or FMS” from these non-localizer, non-precision instrument approach procedure titles.)

The FAA has determined through extensive analysis that current SIAP's intended for use by Area Navigation (RNAV) equipped aircraft can be flown by aircraft utilizing various other types of navigational equipment. In consideration of the above, those SIAP's currently designated as “RNAV” will be redesignated as “VOR/DME RNAV” without otherwise reviewing or modifying the SIAP's.

Because of the close and immediate relationship between these SIAP's and safety in air commerce, I find that notice and public procedure before adopting these SIAPs are, impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on June 22, 2001.
Nicholas A. Sabatini,
Director, Flight Standards Service.

Adoption of the Amendment

Accordingly, pursuant to the authority delegated to me, part 97 of the Federal Aviation Regulations (14 CFR part 97) is amended as follows:

PART 97—STANDARD INSTRUMENT APPROACH PROCEDURES

1. The authority citation for part 97 continues to read:

Authority: 49 U.S.C. 106(g), 40103, 40106, 40113-40114, 40120, 44502, 44514, 44701, 44719, 44721-44722.

§§ 97.23, 97.27, 97.33, 97.35 [Amended]

2. Amend 97.23, 97.27, 97.33 and 97.35, as appropriate, by adding, revising, or removing the following SIAP's, effective at 0901 UTC on the dates specified:

* * * Effective September 6, 2001

Emmonak, AK, VOR or GPS RWY 16, Orig, CANCELLED

Emmonak, AK, VOR RWY 16, Orig

Emmonak, AK, VOR or GPS RWY 34, Orig, CANCELLED

Emmonak, AK, VOR RWY 34, Orig

Birmingham, AL, Birmingham Intl, NDB or GPS RWY 6, Amdt 30B, CANCELLED

Birmingham, AL, Birmingham Intl, NDB RWY 6, Amdt 30B

Dothan, AL, Dothan Regional, VOR or GPS RWY 14, Amdt 3C, CANCELLED

Dothan, AL, Dothan Regional, VOR RWY 14, Amdt 3C

Dothan, AL, Dothan Regional, VOR or GPS RWY 18, Amdt 3B, CANCELLED

Dothan, AL, Dothan Regional, VOR RWY 18, Amdt 3B

Fort Smith, AR, Fort Smith Regional, VOR/DME or TACAN or GPS RWY 7, Amdt 10, CANCELLED

Fort Smith, AR, Fort Smith Regional, VOR/DME or TACAN RWY 7, Amdt 10

Fort Smith, AR, Fort Smith Regional, VOR or TACAN or GPS RWY 25, Amdt 20B, CANCELLED

Fort Smith, AR, Fort Smith Regional, VOR or TACAN RWY 25, Amdt 20B

Tucson, AZ, Tucson Intl, VOR/DME or TACAN or GPS RWY 29 R, Amdt 2A, CANCELLED

Tucson, AZ, Tucson Intl, VOR/DME or TACAN RWY 29R, Amdt 2A

Panama City, FL, Panama City-Bay County Intl, VOR or TACAN or GPS RWY 14, Amdt 15B, CANCELLED

Panama City, FL, Panama City-Bay County Intl, VOR or TACAN RWY 14, Amdt 15B

Panama City, FL, Panama City-Bay County Intl, VOR or TACAN or GPS RWY 32, Amdt 10B, CANCELLED

Panama City, FL, Panama City-Bay County Intl, VOR or TACAN RWY 32, Amdt 10B

Boise, ID, Boise Air Terminal (Gowen Field), VOR/DME or GPS RWY 10R, Orig-A, CANCELLED

Boise, ID, Boise Air Terminal (Gowen Field), VOR/DME RWY 10R, Orig-A

Peoria, IL, Greater Peoria Regional, VOR or TACAN or GPS RWY 13, Amdt 23B, CANCELLED

Peoria, IL, Greater Peoria Regional, VOR or TACAN RWY 13, and Amdt 23B

Peoria, IL, Greater Peoria Regional, VOR/ DME RNAV or GPS RWY 22, Amdt 8, CANCELLED

Peoria, IL, Greater Peoria Regioinal, VOR/DME RNAV RWY 22, Amdt 8

Peoria, IL, Greater Peoria Regional, NDB or GPS RWY 31, Amdt 14A, CANCELLED

Peoria, IL, Greater Peoria Regional, NDB RWY 31, Amdt 14A

Colby, KS, Shaltz Field, NDB or GPS RWY 17, Orig-A, CANCELLED

Colby, KS, Shaltz Field, NDB RWY 17, Orig-A

Colombia, MO, Columbia Regional, VOR/DME or GPS RWY 20, Amdt 2A, CANCELLED

Colombia, MO, Columbia Regional, VOR/DME RWY 20, Amdt 2A

Colombia, MO, Columbia Regional, VOR or GPS RWY 13, Amdt 2, CANCELLED

Colombia, MO, Columbia Regional, VOR RWY 13, Amdt 2

Colombia, MO, Columbia Regional, NDB or GPS RWY 2, Amdt 8B, CANCELLED

Colombia, MO, Columbia Regional, NDB RWY 2, Amdt 8

Lebanon, MO, Floyd W. Jones Lebanon, NDB or GPS RWY 36, Amdt 5, CANCELLED

Lebanon, MO, Floyd W. Jones Lebanon, NDB RWY 36, Amdt 5

Washington, MO, Washington Memorial, VOR or GPS RWY 16, Amdt 1, CANCELLED

Washington, MO, Washington Memorial, VOR RWY 16, Amdt 1

Wilmington, NC, Wilmington Intl, NDB or GPS RWY 35, Amdt 16C, CANCELLED

Wilmington, NC, Wilmington Intl, NDB RWY 35, Amdt 16C

Mohall, ND, Mohall Muni, VOR/DME or GPS RWY 31, Amdt 2C, CANCELLED

Mohall, ND, Mohall Muni, VOR/DME RWY 31, Amdt 2C

Knoxville, TN, McGhee-Tyson, VOR or GPS RWY 23R, Amdt 6A, CANCELLED

Knoxville, TN, McGhee-Tyson, VOR RWY 23R, Amdt 6A

Knoxville, TN, McGhee-Tyson, NDB or GPS RWY 5L, Amdt 4, CANCELLED

Knoxville, TN, McGhee-Tyson, NDB RWY 5L, Amdt 4

Harlingen, TX, Harlingen/Valley Intl, NDB or GPS RWY 17L, Amdt 5A, CANCELLED

Harlingen, TX, Harlingen/Valley Intl, NDB RWY 17L, Amdt 5A

Harlingen, TX, Harlingen/Valley Intl, NDB or GPS RWY 17R, Amdt 11A, CANCELLED

Harlingen, TX, Harlingen/Valley Intl, NDB RWY 17R, Amdt 11A

Casper, WY, Natrona County Intl, VOR/DME or TACAN or GPS RWY 21, Amdt 7A, CANCELLED

Casper, WY, Natrona County Intl, VOR/DME or TACAN RWY 21, Amdt 7A

Casper, WY, Natrona County Intl, NDB or GPS RWY 8, Amdt 13, CANCELLED

Casper, WY, Natrona County Intl, NDB RWY 8, Amdt 13

[FR Doc. 01-16310 Filed 6-27-01; 8:45 am]

BILLING CODE 4910-13-M